FEDERAL COMMUNICATIONS COMMISSION

[FRS 17437; PS Docket No. 13-42]

Reallocation of 470-512 MHz (T-Band) Spectrum

AGENCY: Federal Communications Commission.

ACTION: Notice.

SUMMARY: In this document, the Public Safety and Homeland Security Bureau and Wireless Telecommunications Bureau (collectively the Bureaus) jointly terminate PS Docket No. 13-42 entitled Reallocation of 470-512 MHz (T-Band) Spectrum.

DATES: January 13, 2021.

FOR FURTHER INFORMATION CONTACT: Brian Marenco, Electronics Engineer, Policy and Licensing Division, Public Safety and Homeland Security Bureau, (202) 418-0838 or via email at Brian.Marenco@fcc.gov, and Thomas Eng, Electronics Engineer, Policy and Licensing Division, Public Safety and Homeland Security Bureau, (202) 418-0019 or via email at Thomas.Eng@fcc.gov.

SUPPLEMENTARY INFORMATION: This is a summary of the Commission's Order, DA 21-52, adopted on January 13, 2021, and released on January 13, 2021. The complete text of this document is available for inspection and copying during normal business hours in the FCC Reference Information Center, 45 L Street NE, Washington, DC 20554. Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy. During the time the Commission's building is closed to the general public and until further notice.

1. On January 13, 2021, the Bureaus released an Order terminating the proceeding for PS Docket No. 13-42 as a result of the signing of the Don't Break Up the T-Band Act (T-Band Act) into law as part of the Consolidated Appropriations Act, 2021. The T-Band Act repealed section 6103 of the Middle Class Tax Relief and Job Creation Act of 2012, which mandated the Commission reallocate and auction frequencies used by public safety eligibles in the 470-512 MHz spectrum (T-Band Mandate).

2. The Commission adopted a Notice of Proposed Rulemaking in June 2020 to meet its statutory deadlines and directives. Since the T-Band Act repealed the T-Band Mandate in its entirety, the Bureaus terminated the proceeding since there is no longer a statutory mandate to reallocate and auction frequencies in the T-Band.

Federal Communications Commission.
Marlene Dortch,
Secretary,Office of the Secretary.

[FR Doc. 2021-03425 Filed 2-18-21; 8:45 am]

BILLING CODE 6712-01-P